DEPARTMENT OF HEALTH AND HUMAN SERVICES

Office of the Secretary

Centers for Medicare & Medicaid Services; Delegation of Authority

Notice is hereby given that I have delegated to the Administrator, Centers for Medicare & Medicaid Services (CMS), or his or her successor, the authorities currently vested in the Secretary under section 1135 [42 U.S.C. 1320b-5] of Title XI of the Social Security Act, and as may hereafter be amended, to temporarily waive or modify requirements during certain emergencies or disasters that are related to Medicare, Medicaid, and the Children's Health Insurance Programs as they pertain to the mission of CMS.

The authorities under section 1135 [42 U.S.C. 1320b-5] of the Social Security Act, and as may hereafter be amended, may be re-delegated.

Limitations

1. The authority to make the initial decision to invoke the waiver authorities under section 1135 [42 U.S.C. 1320b-5] upon the occurrence of the two conditions precedent specified in section 1135(g) [42 U.S.C. 1320b-5(g)] is excluded from this delegation and is reserved by me.

2. The following authorities under section 1135 [42 U.S.C. 1320b-5] of the Social Security Act, and as may hereafter be amended, are excluded from this delegation of authority:

—Section 1135(b)(7) pertaining to sanctions and penalties that arise from noncompliance with certain requirements of regulations promulgated under section 264(c) of the Health Insurance Portability and Accountability Act of 1996 (HIPAA) [42 U.S.C. 1320d-2 note]. The authority to waive the HIPAA regulations at 45 of the Code of Federal Regulations, Part 164 will continue to be held by me.

—Section 1135(d) to provide a certification and advance written notice to Congress at least two days before exercising the authority with respect to an emergency area is reserved by me.

—Section 1135(f) to report to Congress regarding the approaches used to accomplish the purposes described in section 1135(a) [42 U.S.C. 1320b-5] of the Social Security Act, including an evaluation of such approaches and recommendations for improved approaches should the need for such emergency authority arise in the future is reserved by me.

3. The authorities under section 1135 [42 U.S.C. 1320b-5] shall be exercised under the Department's policy on regulations and the existing delegation of authority to approve and issue regulations.

I hereby affirm and ratify any actions taken by the Administrator, CMS, or his or her subordinates, which involved the exercise of the authorities under section 1135 [42 U.S.C. 1320b-5] delegated herein prior to the effective date of this delegation of authority.

This delegation of authority is effective immediately.

Authority: 44 U.S.C. 3101.

Kathleen Sebelius,
Secretary.

[FR Doc. 2010-4992 Filed 3-9-10; 8:45 am]

BILLING CODE 4120-01-P